DEPARTMENT OF THE INTERIOR

Bureau of Land Management

[LLES956000-L19100000-BK0000-LRCMM0E0015P]

Eastern States: Filing of Plat of Survey, North Carolina

AGENCY: Bureau of Land Management, Interior.

ACTION: Notice.

SUMMARY: The Bureau of Land Management (BLM) will file the plat of survey of the land described below in the BLM—Eastern States office in Springfield, Virginia, 30 calendar days from the date of publication in the Federal Register.

FOR FURTHER INFORMATION CONTACT: Bureau of Land Management-Eastern States, 7450 Boston Boulevard, Springfield, Virginia 22153. Attn: Dominica Van Koten. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The survey was requested by the Bureau of Indian Affairs.

The land surveyed is:

Swain County, North Carolina

The plat of survey represents the dependent resurvey of a portion of the 3200 acre tract, lands held in trust for the Eastern Band of Cherokee Indians, Swain County, in the State of North Carolina, and was accepted December 30, 2011.

We will place copies of the plats we described in the open files. They will be available to the public as a matter of information.

If BLM receives a protest against a survey, as shown on the plat, prior to the date of the official filing, we will stay the filing pending our consideration of the protest.

We will not officially file the plat until the day after we have accepted or dismissed all protests and they have become final, including decisions on appeals.

Dated: January 30, 2012.
Dominica Van Koten,
Chief Cadastral Surveyor.

[FR Doc. 2012-2424 Filed 2-2-12; 8:45 am]

BILLING CODE 4310-GJ-P